DEPARTMENT OF ENERGY

Bonneville Power Administration

Walla Walla Basin Spring Chinook Hatchery Program

AGENCY: Bonneville Power Administration (BPA), Department of Energy (DOE).

ACTION: Notice of intent to prepare an Environmental Impact Statement (EIS) and notice of floodplain and wetlands assessment.

SUMMARY: In accordance with the National Environmental Policy Act (NEPA), BPA intends to prepare an EIS on its decision whether to fund the Confederated Tribes of the Umatilla Indian Reservation's (CTUIR) proposal to construct and operate a hatchery for spring Chinook salmon in the Walla Walla River basin. The hatchery would expand facilities at the site of the CTUIR's existing Adult Holding and Spawning Facility on the South Fork Walla Walla River near the town of Milton-Freewater in Umatilla County, Oregon, to allow production of up to 500,000 yearling spring Chinook smolts. Project operations would include collection of adult spring Chinook for broodstock at Nursery Bridge Dam downstream of the proposed hatchery, incubation and rearing of juvenile spring Chinook, and release of smolts and adults in tributaries to the Walla Walla River in both Oregon and Washington. Spring Chinook were extirpated from the Walla Walla River basin in the early to mid-1900s. The proposal would augment fish populations available for harvest and aid in establishing a naturally spawning spring Chinook population.

With this Notice of Intent, BPA is initiating the public scoping process for the EIS. BPA is requesting comments about potential environmental impacts that it should consider as it prepares the EIS.

In accordance with DOE regulations for compliance with floodplain and wetlands environmental review requirements, BPA will prepare a floodplain and wetlands assessment to avoid or minimize potential harm to or within any affected floodplains and wetlands. The assessment will be included in the EIS.

DATES: Written scoping comments are due to the address below no later than April 29, 2013. Comments may also be made at the EIS scoping meetings to be held on Tuesday, April 16, 2013, from 6 p.m. to 8 p.m. at the Milton-Freewater Community Building, 109 NE. 5th, Milton-Freewater, Oregon 97862; and on Wednesday, April 17, 2013, from 6 p.m. to 8 p.m. at the Dayton Elementary School, 302 E. Park, Dayton, Washington 99328. At these meetings, maps and other information about the project will be available, and members of the project team will give a brief overview of the proposal, answer questions, and accept oral and written comments.

Send letters with comments and suggestions on the proposed scope of the Draft EIS, and requests to be placed on the project mailing list, to Bonneville Power Administration, Public Affairs Office—DKE-7, P.O. Box 14428, Portland, OR, 97293-4428, or by fax to 503-230-4019. You also may call BPA's toll-free comment line at 1-800-622-4519 and leave a message (please include the name of this project), or submit comments online at www.bpa.gov/comment. BPA will post all comment letters on BPA's Web site at www.bpa.gov/comment.

FOR FURTHER INFORMATION CONTACT: Brenda Aguirre, Environmental Coordinator, Bonneville Power Administration—KEC-4, P.O. Box 3621, Portland, Oregon 97208-3621; toll-free telephone 1-800-282-3713; direct telephone 503-230-5928; or email baguirre@bpa.gov. You may also contact Jay Marcotte, Project Manager, Bonneville Power Administration—KEWU-3, P.O. Box 3621, Portland, Oregon, 97208-3621; toll-free telephone 1-800-282-3713; direct telephone 503-230-3943; or email jgmarcotte@bpa.gov. Additional information can be found at the project Web site: www.bpa.gov/goto/WallaWallaHatchery.

SUPPLEMENTARY INFORMATION: Under the Pacific Northwest Electric Power Planning and Conservation Act of 1980 (Northwest Power Act), BPA has a duty to support efforts to mitigate for effects of the Federal Columbia River Power System on fish and wildlife in the mainstem Columbia River and its tributaries. In addition to its responsibilities under the Northwest Power Act, on May 2, 2008, BPA, the Bureau of Reclamation, and the U.S. Army Corps of Engineers signed the 2008 Columbia Basin Fish Accords Memorandum of Agreement with the Three Treaty Tribes. The three tribes are the CTUIR, the Confederated Tribes and Bands of the Yakama Nation, and the Confederated Tribes of Warm Springs Reservation. The agreement includes funding for the CTUIR's Walla Walla Basin Spring Chinook Hatchery Program, subject to compliance with NEPA and other environmental review requirements.

Over the past several years, the CTUIR has worked with irrigation districts and various agencies to improve stream flow and fish habitat in the Walla Walla basin. The hatchery is proposed in order to begin a comprehensive program to reintroduce spring Chinook to this basin. The proposed program would develop a locally adapted broodstock of spring Chinook and release sufficient numbers of spring Chinook smolts in areas where they would be expected to return as adults to provide harvest and to spawn naturally. Potential additional harvest and natural production would also be encouraged by planting adults in tributaries to the Walla Walla River, such as Touchet River and Mill Creek.

The proposal would include construction activities at two existing sites; the South Fork of the Walla Walla near the town of Milton-Freewater, and the Nursery Bridge Dam trap, downstream from the site. At the South Fork Walla Walla Adult Holding and Spawning Facility, activities would include construction of the following: a 13,300 square foot hatchery building (for administrative offices, incubation and rearing, and water treatment); sixteen outdoor rearing raceways; a smolt release channel; a shop building (for vehicle, equipment, and feed storage); a septic system; and a new well (to improve water temperatures and water quality from existing water sources). In addition, an existing river intake would be modified, and existing sub-standard residences would be removed and replaced by up to four new staff residences.

At the Nursery Bridge Dam trap, improvements would be made to the fishway for trapping adult fish.

The proposal would also include the following operational activities: collection of approximately 350 adult spring Chinook annually at the Nursery Bridge Dam fishway for broodstock while still allowing up to 1,100 adults annually to pass the trap and return to key upriver habitat to spawn naturally; release of up to 500,000 spring Chinook smolts annually in the Walla Walla River basin; annual distribution of adults in excess of broodstock and natural spawning needs in Walla Walla River tributaries; and a monitoring and evaluation program.

In the EIS, BPA is considering two alternatives: funding CTUIR's proposal and a no action alternative of not funding the proposal.

Public Participation and Identification of Environmental Issues. The potential environmental issues identified so far for this project include effects of hatchery operations on water quality; the risk of competition for habitat between increasing numbers of reintroduced spring Chinook and ESA-listed fish such as bull trout or steelhead; the potential for adult spring Chinook collection activities to affect other fish; and the social, cultural, and economic effects of project construction and operations, as well as harvest.

BPA has established a 30-day scoping period during which tribes, affected landowners, concerned citizens, special interest groups, local and federal governments, and any other interested parties are invited to comment on the scope of the proposed EIS, including environmental impacts to be evaluated. Scoping will help BPA ensure that the full range of issues related to this proposal are addressed in the EIS. Scoping also will identify significant or potentially significant impacts that may result from the proposed project. When completed, the Draft EIS will be circulated for review and comment, and BPA will hold public meetings to answer questions and receive comments. BPA will consider and respond to comments received on the Draft EIS in the Final EIS. BPA's decision will be documented in a Record of Decision that will follow the Final EIS.

Issued in Portland, Oregon on March 20, 2013.
William K. Drummond,
Administrator and Chief Executive Officer.

[FR Doc. 2013-07248 Filed 3-27-13; 8:45 am]

BILLING CODE 6450-01-P